DEPARTMENT OF COMMERCE

International Trade Administration

Notice of Scope Rulings

AGENCY: Import Administration, International Trade Administration, Department of Commerce.

EFFECTIVE DATE: July 19, 2005.

SUMMARY: The Department of Commerce (the Department) hereby publishes a list of scope rulings completed between January 1, 2005, and March 31, 2005. In conjunction with this list, the Department is also publishing a list of requests for scope rulings and anticircumvention determinations pending as of March 31, 2005, as well as scope rulings inadvertently omitted from prior published lists. We intend to publish future lists after the close of the next calendar quarter.

FOR FURTHER INFORMATION CONTACT: Irina Itkin or Greg Kalbaugh, Import Administration, International Trade Administration, U.S. Department of Commerce, 14th Street and Constitution Avenue, NW, Washington, DC 20230; telephone (202) 482-0656 or (202) 482-3693.

SUPPLEMENTARY INFORMATION:

Background

The Department's regulations provide that the Secretary will publish in the Federal Register a list of scope rulings. See 19 CFR 351.225(o). Our most recent “Notice of Scope Rulings” was published on May 10, 2005. See 70 FR 24533. The instant notice covers all scope rulings and anticircumvention determinations completed by Import Administration between January 1, 2005, and March 31, 2005, inclusive. It also lists any scope or anticircumvention inquiries pending as of March 31, 2005, as well as scope rulings inadvertently omitted from prior published lists. As described below, subsequent lists will follow after the close of each calendar quarter.

Scope Rulings Completed Between January 1, 2005, and March 31, 2005:

Japan

A-588-854: Certain Tin Mill Products from Japan

Requestor: Metal One America, Inc; certain electrolytic tin plate and tin free steel products, made in Colombia by Hojalata y Laminados S.A. from Japanese single-reduced black plate and double-reduced black plate, are excluded from the scope of the antidumping duty order; January 7, 2005.

People's Republic of China

A-570-506: Porcelain-On-Steel Cooking Ware from the People's Republic of China

Requestor: Taybek International; the Pro Popper professional popcorn popper is within the scope of the antidumping duty order; January 4, 2005.

A-570-504: Petroleum Wax Candles from the People's Republic of China

Requestor: Illuminations Stores, Inc.; two candles (item numbers 1050-0593 and 1050-0594) and two candle sets (item numbers 1050-0591 and 1050-0592) are within the scope of the antidumping duty order; January 6, 2005.

A-570-881: Malleable Cast Iron Pipe Fittings from the People's Republic of China

Requestors: 1) Nitek Electronics, Inc. and Sango International, L.P., and 2) A.Y. McDonald Mfg. Co.; meter swivels and meter nuts are within the scope of the antidumping duty order; January 11, 2005.

A-570-504: Petroleum Wax Candles from the People's Republic of China

Requestor: Holly Lobby Stores, Inc.; “Fall Floating Leaf Candles” and “Pumpkin Floating Candles” are within the scope of the antidumping duty order. “Floating Rose Candles” are excluded from the scope of the antidumping duty order; January 14, 2005.

A-570-504: Petroleum Wax Candles from the People's Republic of China

Requestor: Coppersmith Inc., on behalf of Specialty Merchandise Corp.; “Xmas JOY” candles are within the scope of the antidumping duty order; January 14, 2005.

A-570-504: Petroleum Wax Candles from the People's Republic of China

Requestor: Noteworthy, a division of Papermates, Inc.; “Floater Flower Candle” and “Rose Pillar Candle” are within the scope of the antidumping duty order; January 14, 2005.

A-570-504: Petroleum Wax Candles from the People's Republic of China

Requestor: Abrim Enterprises, Inc.; “Easter Egg/Flower Basket,” “Square-M Angel,” “Garlic-L,” “Easter Egg-E,” “Strobile-M,” “Halloween Skull-A,” “Tulip Bud-L,” “Birthday Cake-S,” “Censer,” and “X-Mas Tree-A” candles are within the scope of the antidumping duty order. “Snowman (Wife)” and “Snowman (Husband)” candles are excluded from the scope of the antidumping duty order; January 19, 2005.

A-570-504: Petroleum Wax Candles from the People's Republic of China

Requestor: Kathryn Beich, Inc.; “Jewel,” “Red Rose,” and “Polka Dot” candles are within the scope of the antidumping duty order; January 19, 2005.

A-570-504: Petroleum Wax Candles from the People's Republic of China

Requestor: Dollar Tree Stores, Inc.; one candle (molded “orchid stem” candle, SKU 806827) is excluded from the scope of the antidumping duty order because it is an identifiable object, while sixteen candles are within the scope of the antidumping duty order; January 26, 2005.

A-570-504: Petroleum Wax Candles from the People's Republic of China

Requestor: Garden Ridge; one candle (item number GRI/CXF112) is excluded from the scope of the antidumping duty order because it is associated with a recognized holiday, while ten candles are within the scope of the antidumping duty order; February 2, 2005.

A-570-882: Brown Aluminum Oxide from the People's Republic of China

Requestor: Cometals Division of Commercial Metals Company; black aluminum oxide is excluded from the scope of the antidumping duty order; February 7, 2005.

A-570-504: Petroleum Wax Candles from the People's Republic of China

Requestor: Pei Eichel, Inc.; the three styles of “Archipelago Bombay Sleeve” candles (PO numbers 9904234, 9904235, and 9904236) are within the scope of the antidumping duty order; February 8, 2005.

A-570-891: Hand Trucks and Certain Parts Thereof from the People's Republic of China

Requestor: Vertex International, Inc.; certain components of its Garden Cart, if imported separately, are within the scope of the antidumping duty order; February 15, 2005.

A-570-827: Cased Pencils from the People's Republic of China

Requestor: Rich Frog Industries, Inc.; certain decorated wooden gift pencils are within the scope of the antidumping duty order; February 18, 2005.

A-570-827: Cased Pencils from the People's Republic of China

Requestor: Target Corporation; the RoseArt Clip N' Color is excluded from the scope of the antidumping duty order; March 5, 2005.

A-570-504: Petroleum Wax Candles from the People's Republic of China

Requestor: Maredy Candy Company; all three candles (“heart,” “star,” and “snowflake” candles) are within the scope of the antidumping duty order; March 7, 2005.

A-570-504: Petroleum Wax Candles from the People's Republic of China

Requestor: Target Corporation; two candles (“leaf,” and “cranberry ball”) and set of “stone” candles are within the scope of the antidumping duty order; March 9, 2005.

A-570-504: Petroleum Wax Candles from the People's Republic of China

Requestor: Sears; the “wrapped present garden” candle set is within the scope of the antidumping duty order; March 10, 2005.

A-570-504: Petroleum Wax Candles from the People's Republic of China

Requestor: J.C. Penney Purchasing Corp.; the “wicker lamp shade” candle (item number 21075) is within the scope of the antidumping duty order; March 10, 2005.

Multiple Countries

A-475-820: Stainless Steel Wire Rod from Italy; C-475-821: Stainless Steel Wire Rod from Italy; A-588-843: Stainless Steel Wire Rod from Japan; A-469-805: Stainless Steel Wire Rod from Spain; A-469-807: Stainless Steel Wire Rod from Spain; A-583-828: Stainless Steel Wire Rod from Taiwan; A-533-810: Certain Stainless Steel Wire Rod from India; A-588-833: Stainless Steel Wire Rod from India; A-533-808: Stainless Steel Wire Rod from India; C-469-004: Stainless Steel Wire Rod from Spain

Requestor: Ishar Bright Steel Ltd.; certain stainless steel bar that is manufactured in the United Arab Emirates from stainless steel wire rod imported from multiple subject countries is excluded from the scope of the antidumping and/or countervailing duty orders from India, Italy, Japan, Spain and Taiwan; February 7, 2005.

Anticircumvention Determinations Completed Between January 1, 2005, and March 31, 2005:

None

Scope Inquiries Terminated Between January 1, 2005, and March 31, 2005:

People's Republic of China

A-570-504: Petroleum Wax Candles from the People's Republic of China

Requestor: Reckitt Benckiser Inc. withdrew its request for a scope ruling; terminated January 18, 2005.

A-570-504: Petroleum Wax Candles from the People's Republic of China

Requestor: Industrial Raw Materials Corp.; “paraffin wax plugs” request improperly filed; terminated February 14, 2005.

Scope Inquiries Pending as of March 31, 2005:

Brazil

A-351-832; C-351-833: Carbon and Certain Alloy Steel Wire Rod from Brazil

Requestors: Companhia Siderugica Belgo Mineira Participacao Industria e Comercio S.A. and B.M.P. Siderugica S.A.; whether certain grade 1080 tire cord quality wire rod and tire bead quality wire rod (1080 TCBQWR) is within the scope of the order; requested March 29, 2004.

India

A-533-808; A-533-810: Certain Stainless Steel Wire Rod from India; Certain Stainless Steel Bar from India

Requestor: Mukand Ltd.; whether stainless steel bar that is manufactured in the United Arab Emirates from stainless steel wire rod imported from India is within the scope of the antidumping duty orders on stainless steel wire rod and stainless steel bar from India; requested May 14, 2003.

Republic of Korea

C-580-851: Dynamic Random Access Memory Semiconductors from Korea

Requestor: Cisco Systems, Inc.; whether removable memory modules placed on motherboards that are imported for repair or refurbishment are within the scope of the countervailing duty order; requested December 29, 2004.

People's Republic of China

A-570-504: Petroleum Wax Candles from the People's Republic of China

Requestor: New Spectrum; whether floating candles, assorted figurine candles, “ball of gold rope” candle, Christmas ornament candles, various candle sets, scented candles, and citronella “garden torch” candles are within the scope of the antidumping duty order; requested March 29, 2002.

A-570-504: Petroleum Wax Candles from the People's Republic of China

Requestor: Home Interiors & Gifts, Inc.; whether a “rose blossom” candle, “sunflower” floating candles, “Americana heart” floating candles, “baked apple” tea lights, and vanilla tea lights are within the scope of the antidumping duty order; requested June 4, 2002.

A-570-504: Petroleum Wax Candles from the People's Republic of China

Requestor: Target Corporation; whether snowball candles and sets are within the scope of the antidumping duty order; requested February 5, 2003.

A-570-504: Petroleum Wax Candles from the People's Republic of China

Requestor: Crazy Mountain Imports; whether various candles with Christmas ornaments are within the scope of the antidumping duty order; requested February 19, 2003.

A-570-504: Petroleum Wax Candles from the People's Republic of China

Requestor: Access Business Group; whether various “bowl” and jar candles are within the scope of the antidumping duty order; requested March 25, 2003.

A-570-504: Petroleum Wax Candles from the People's Republic of China

Requestor: Home & Garden Party; whether two “leaf” candles are within the scope of the antidumping duty order; requested September 30, 2003.

A-570-504: Petroleum Wax Candles from the People's Republic of China

Requestor: Rokeach Foods; whether a “Yahrzeit” (or “day of memory”) candle is within the scope of the antidumping duty order; requested April 22, 2004.

A-570-504: Petroleum Wax Candles from the People's Republic of China

Requestor: Pier 1 Imports, Inc.; whether 13 models of candles are within the scope of the antidumping duty order; requested May 24, 2004.

A-570-827: Cased Pencils from the People's Republic of China

Requestor: Fiskars Brands, Inc.; whether certain compasses are within the scope of the antidumping duty order; requested September 10, 2004.

A-570-803: Heavy Forged Hand Tools, Finished or Unfinished, With or Without Handles, from the People's Republic of China

Requestor: Olympia Group Inc.; whether cast tampers are within the scope of the antidumping duty order; requested September 24, 2004.

A-570-886: Polyethylene Retail Carrier Bags from the People's Republic of China

Requestor: Dimensions Trading, Inc.; whether polyethylene sample bags are within the scope of the antidumping duty order; requested October 13, 2004.

A-570-803: Heavy Forged Hand Tools, Finished or Unfinished, With or Without Handles, from the People's Republic of China

Requestor: Olympia Group Inc.; whether pry bars, with a bar length under 18 inches, are within the scope of the antidumping duty order; requested November 4, 2004.

A-570-502: Iron Construction Castings from the People's Republic of China

Requestor: A.Y. McDonald Mfg. Co.; whether certain cast iron articles (meter box frames, covers, extension rings; meter box bases, upper bodies, lids), if imported separately, are within the scope of the antidumping duty order; requested November 16, 2004.

A-570-504: Petroleum Wax Candles from the People's Republic of China

Requestor: Rokeach Foods; whether Chanukah candles are within the scope of the antidumping duty order; requested January 15, 2005.

A-570-868: Folding Metal Tables and Chairs from the People's Republic of China

Requestor: Spencer Gifts LLC (Spencer); whether “butterfly chairs” are within the scope of the antidumping duty order; requested March 21, 2005.

Russian Federation

A-821-802: Antidumping Suspension Agreement on Uranium

Requestor: USEC, Inc. and its subsidiary, United States Enrichment Corporation; whether enriched uranium located in Kazakhstan at the time of the dissolution of the Soviet Union is within the scope of the order; requested August 6, 1999.

A-821-819: Magnesium Metal from the Russian Federation

Requestor: Leeds Specialty Alloys (LSA); whether a type of magnesium master alloy is within the scope of the antidumping duty order; requested March 8, 2005.

Vietnam

A-552-801: Certain Frozen Fish Fillets from the Socialist Republic of Vietnam

Requestor: Piazza Seafood World LLC; whether certain basa and tra fillets from Cambodia which are a product of Vietnam are within the scope of the antidumping duty order; requested May 12, 2004.

Anticircumvention Inquiries Pending as of March 31, 2005:

People's Republic of China

A-570-504: Petroleum Wax Candles from the People's Republic of China

Requestor: National Candle Association; whether imports of palm and vegetable-based wax candles from the PRC can be considered later-developed merchandise which is now circumventing the antidumping duty order; requested October 8, 2004.

A-570-504: Petroleum Wax Candles from the People's Republic of China

Requestor: National Candle Association; whether imports of palm and vegetable-based wax candles from the PRC can be considered a minor alteration to the subject merchandise for purposes of circumventing the antidumping duty order; requested October 12, 2004.

Vietnam

A-552-801: Certain Frozen Fish Fillets From the Socialist Republic of Vietnam

Requestor: Catfish Farmers of America and certain individual U.S. catfish processors; whether imports of frozen fish fillets from Cambodia made from live fish sourced from Vietnam, and falling within the scope of the antidumping duty order, are circumventing the antidumping duty order; requested August 20, 2004.

Scope Rulings Inadvertently Omitted from Prior Published Lists:

Russian Federation

A-8210811: Agreement Suspending the Antidumping Investigation on Solid Fertilizer Grade Ammonium Nitrate from the Russian Federation

Requestor: Committee for Fair Ammonium Nitrate Trade; 33-3-0 fertilizer is included within the suspension agreement; March 11, 2004.

Interested parties are invited to comment on the completeness of this list of pending scope and anti-circumvention inquiries. Any comments should be submitted to the Deputy Assistant Secretary for AD/CVD Operations, Import Administration, International Trade Administration, 14th Street and Constitution Avenue, NW, Room 1870, Washington, DC 20230.

This notice is published in accordance with 19 CFR 351.225(o) of the Department's regulations.

Dated: July 13, 2005.
Susan Kuhbach,
Acting Deputy Assistant Secretary for Import Administration.

[FR Doc. E5-3837 Filed 7-18-05; 8:45 am]

BILLING CODE: 3510-DS-S